DEPARTMENT OF ENERGY

Federal Energy Regulatory Commission

Combined Notice of Filings #1

Take notice that the Commission received the following exempt wholesale generator filings:

Docket Numbers: EG24-273-000.

Applicants: BRP Avila BESS LLC.

Description: BRP Avila BESS LLC submits Notice of Self-Certification of Exempt Wholesale Generator Status.

Filed Date: 9/5/24.

Accession Number: 20240905-5156.

Comment Date: 5 p.m. ET 9/26/24.

Docket Numbers: EG24-274-000.

Applicants: BRP Cachi BESS LLC.

Description: BRP Cachi BESS LLC submits Notice of Self-Certification of Exempt Wholesale Generator Status.

Filed Date: 9/5/24.

Accession Number: 20240905-5159.

Comment Date: 5 p.m. ET 9/26/24.

Docket Numbers: EG24-275-000.

Applicants: BRP Castor BESS LLC.

Description: BRP Castor BESS LLC submits Notice of Self-Certification of Exempt Wholesale Generator Status.

Filed Date: 9/5/24.

Accession Number: 20240905-5160.

Comment Date: 5 p.m. ET 9/26/24.

Docket Numbers: EG24-276-000.

Applicants: BRP Desna BESS LLC.

Description: BRP Desna BESS LLC submits Notice of Self-Certification of Exempt Wholesale Generator Status.

Filed Date: 9/5/24.

Accession Number: 20240905-5166.

Comment Date: 5 p.m. ET 9/26/24.

Docket Numbers: EG24-277-000.

Applicants: BRP Zeya BESS LLC.

Description: BRP Zeya BESS LLC submits Notice of Self-Certification of Exempt Wholesale Generator Status.

Filed Date: 9/5/24.

Accession Number: 20240905-5167.

Comment Date: 5 p.m. ET 9/26/24.

Docket Numbers: EG24-278-000.

Applicants: Platinum Energy Storage LLC.

Description: Platinum Energy Storage LLC submits Notice of Self-Certification of Exempt Wholesale Generator Status.

Filed Date: 9/5/24.

Accession Number: 20240905-5168.

Comment Date: 5 p.m. ET 9/26/24.

Docket Numbers: EG24-279-000.

Applicants: Tanzanite Energy Storage, LLC.

Description: Tanzanite Energy Storage, LLC submits Notice of Self-Certification of Exempt Wholesale Generator Status.

Filed Date: 9/5/24.

Accession Number: 20240905-5171.

Comment Date: 5 p.m. ET 9/26/24.

Docket Numbers: EG24-280-000.

Applicants: Ridgely Energy Farm, LLC.

Description: Ridgely Energy Farm, LLC submits Notice of Self-Certification of Exempt Wholesale Generator Status.

Filed Date: 9/6/24.

Accession Number: 20240906-5041.

Comment Date: 5 p.m. ET 9/27/24.

Docket Numbers: EG24-281-000.

Applicants: Long Lake Solar, LLC.

Description: Long Lake Solar, LLC submits Notice of Self-Certification of Exempt Wholesale Generator Status.

Filed Date: 9/6/24.

Accession Number: 20240906-5064.

Comment Date: 5 p.m. ET 9/27/24.

Docket Numbers: EG24-282-000.

Applicants: Limewood Bell Renewables LLC.

Description: Limewood Bell Renewables LLC submits Notice of Self-Certification of Exempt Wholesale Generator Status.

Filed Date: 9/6/24.

Accession Number: 20240906-5065.

Comment Date: 5 p.m. ET 9/27/24.

Docket Numbers: EG24-283-000.

Applicants: Eldorado Solar Project, LLC.

Description: Eldorado Solar Project, LLC submits Notice of Self-Certification of Exempt Wholesale Generator Status.

Filed Date: 9/6/24.

Accession Number: 20240906-5145.

Comment Date: 5 p.m. ET 9/27/24.

Take notice that the Commission received the following electric rate filings:

Docket Numbers: ER23-973-004.

Applicants: New York Independent System Operator, Inc., Niagara Mohawk Power Corporation.

Description: Compliance filing: Niagara Mohawk Power Corporation submits tariff filing per 35: NMPC Compliance: SPC Settlement to be effective 4/1/2023.

Filed Date: 9/6/24.

Accession Number: 20240906-5071.

Comment Date: 5 p.m. ET 9/27/24.

Docket Numbers: ER23-2764-003.

Applicants: Northeastern Power & Gas, LLC.

Description: Response to 07/02/2024 Deficiency Letter of Northeastern Power & Gas, LLC.

Filed Date: 8/30/24.

Accession Number: 20240830-5357.

Comment Date: 5 p.m. ET 9/9/24.

Docket Numbers: ER24-2516-002.

Applicants: PJM Interconnection, L.L.C.

Description: Tariff Amendment: Amendment of GIA, SA No. 7303; Queue No. AE2-051 in Docket er24-2516-000 to be effective 6/12/2024.

Filed Date: 9/5/24.

Accession Number: 20240905-5162.

Comment Date: 5 p.m. ET 9/26/24.

Docket Numbers: ER24-2982-000.

Applicants: Versant Power.

Description: § 205(d) Rate Filing: Non-Conforming Interconnection Agreement with Eagle Point to be effective 8/8/2024.

Filed Date: 9/6/24.

Accession Number: 20240906-5028

Comment Date: 5 p.m. ET 9/27/24.

Docket Numbers: ER24-2983-000.

Applicants: Versant Power.

Description: § 205(d) Rate Filing: Eagle Point Legacy Charge Agreement to be effective 8/8/2024.

Filed Date: 9/6/24.

Accession Number: 20240906-5031.

Comment Date: 5 p.m. ET 9/27/24.

Docket Numbers: ER24-2984-000.

Applicants: Ridgely Energy Farm, LLC.

Description: Baseline eTariff Filing: Market-Based Rate Application to be effective 11/6/2024.

Filed Date: 9/6/24.

Accession Number: 20240906-5040.

Comment Date: 5 p.m. ET 9/27/24.

Docket Numbers: ER24-2985-000.

Applicants: Canal Marketing LLC.

Description: Canal Marketing LLC submits revised rate schedule under Schedule 17 of the ISO-NE OATT with respect to Interconnection Reliability Operating Limits, critical infrastructure protection costs incurred 04/01/2023 to 03/31/2024.

Filed Date: 8/30/24.

Accession Number: 20240830-5355.

Comment Date: 5 p.m. ET 9/20/24.

Docket Numbers: ER24-2986-000.

Applicants: Long Lake Solar, LLC.

Description: Baseline eTariff Filing: Application for Market-Based Rate Authority to be effective 10/9/2024.

Filed Date: 9/6/24.

Accession Number: 20240906-5056.

Comment Date: 5 p.m. ET 9/27/24.

Docket Numbers: ER24-2987-000.

Applicants: Louisville Gas and Electric Company.

Description: § 205(d) Rate Filing: TVA Interconnection FERC No. 527 and Termination Notice to be effective 11/7/2024.

Filed Date: 9/6/24.

Accession Number: 20240906-5060.

Comment Date: 5 p.m. ET 9/27/24.

Docket Numbers: ER24-2988-000.

Applicants: Kentucky Utilities Company.

Description: § 205(d) Rate Filing: KU Concurrance LGE KU TVA Joint IA FERC No. 527 to be effective 11/7/2024.

Filed Date: 9/6/24.

Accession Number: 20240906-5066.

Comment Date: 5 p.m. ET 9/27/24.

Docket Numbers: ER24-2989-000.

Applicants: Pacific Gas and Electric Company.

Description: § 205(d) Rate Filing: Amendment to Calpine Greenleaf Holdings (SA 174) to be effective 9/15/2024.

Filed Date: 9/6/24.

Accession Number: 20240906-5074.

Comment Date: 5 p.m. ET 9/27/24.

Docket Numbers: ER24-2990-000.

Applicants: PJM Interconnection, L.L.C.

Description: § 205(d) Rate Filing: Revisions to Sch. 12-Appx A: August 2024 RTEP, 30-Day Comment Period Requested to be effective 12/5/2024.

Filed Date: 9/6/24.

Accession Number: 20240906-5103.

Comment Date: 5 p.m. ET 10/7/24.

Docket Numbers: ER24-2991-000.

Applicants: Navajo Tribal Utility Authority.

Description: Petition for Limited Waiver and Request for Shortened Comment Period and Expedited Treatment of Navajo Tribal Utility Authority.

Filed Date: 9/5/24.

Accession Number: 20240905-5185.

Comment Date: 5 p.m. ET 9/26/24.

Docket Numbers: ER24-2992-000.

Applicants: Alabama Power Company, Georgia Power Company, Mississippi Power Company.

Description: § 205(d) Rate Filing: Alabama Power Company submits tariff filing per 35.13(a)(2)(iii: Beaver Creek Solar LGIA Filing to be effective 8/27/2024.

Filed Date: 9/6/24.

Accession Number: 20240906-5111.

Comment Date: 5 p.m. ET 9/27/24.

Docket Numbers: ER24-2993-000.

Applicants: Alabama Power Company, Georgia Power Company, Mississippi Power Company.

Description: § 205(d) Rate Filing: Alabama Power Company submits tariff filing per 35.13(a)(2)(iii: Wild Hog Solar LGIA Filing to be effective 8/27/2024.

Filed Date: 9/6/24.

Accession Number: 20240906-5112.

Comment Date: 5 p.m. ET 9/27/24.

Docket Numbers: ER24-2994-000.

Applicants: PJM Interconnection, L.L.C.

Description: § 205(d) Rate Filing: Amendment to WMPA No. 5997; AF1-249 to be effective 11/6/2024.

Filed Date: 9/6/24.

Accession Number: 20240906-5118.

Comment Date: 5 p.m. ET 9/27/24.

Docket Numbers: ER24-2995-000.

Applicants: PJM Interconnection, L.L.C.

Description: § 205(d) Rate Filing: Proposal Regarding Energy Efficiency Participation in PJM's Capacity Market to be effective 11/6/2024.

Filed Date: 9/6/24.

Accession Number: 20240906-5122.

Comment Date: 5 p.m. ET 9/27/24.

Docket Numbers: ER24-2996-000.

Applicants: PJM Interconnection, L.L.C.

Description:§ 205(d) Rate Filing: Amendment to WMPA, Service Agreement No. 6760; AF1-134 to be effective 11/6/2024.

Filed Date: 9/6/24.

Accession Number: 20240906-5126.

Comment Date: 5 p.m. ET 9/27/24.

Docket Numbers: ER24-2997-000.

Applicants: Puget Sound Energy, Inc.

Description: § 205(d) Rate Filing: BP Products North America—NITSA, NOA, IA to be effective 9/1/2024.

Filed Date: 9/6/24.

Accession Number: 20240906-5135.

Comment Date: 5 p.m. ET 9/27/24.

Docket Numbers: ER24-2998-000.

Applicants: Mountain Wind Power, LLC.

Description: Initial rate filing: Amended and Restated Shared Facilities Agreement and Request for Waivers to be effective 9/7/2024.

Filed Date: 9/6/24.

Accession Number: 20240906-5147.

Comment Date: 5 p.m. ET 9/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 6, 2024.
Debbie-Anne A. Reese,
Acting Secretary.

[FR Doc. 2024-20764 Filed 9-12-24; 8:45 am]

BILLING CODE 6717-01-P